DEPARTMENT OF ENERGY

Federal Energy Regulatory Commission

[Docket Nos. ER03-563-030 and EL04-102-000]

Notice of Initiation of Proceeding and Refund Effective Date

June 4, 2004.

Take notice that on June 2, 2004, the Commission issued an order in the above-referenced dockets initiating an investigation in Docket No. EL04-102-000 under section 206 of the Federal Power Act to determine whether a separate energy load zone should be created for Southwest Connecticut (SWCT), and whether it should be implemented in advance of the implementation of locational installed capacity (LICAP).

The refund effective date in Docket No. EL04-102-000, established pursuant to section 206(b) of the Federal Power Act, will be 60 days from the date the Commission's June 2, 2004 Order is published in the Federal Register.

Linda Mitry,
Acting Secretary.

[FR Doc. E4-1338 Filed 6-9-04; 8:45 am]

BILLING CODE 6717-01-P